ENVIRONMENTAL PROTECTION AGENCY

[ER-FRL-8999-6]

Environmental Impacts Statements; Notice of Availability

Responsible Agency: Office of Federal Activities, General Information (202) 564-1399 or http://www.epa.gov/compliance/nepa/.

Weekly receipt of Environmental Impact Statements

Filed 08/08/2011 Through 08/12/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110259, Draft EIS, FHWA, FL, Crosstown Parkway Extension Project, New Bridge Crossing of the North Fork St. Lucie River Crosstown Parkway from Manth Lane to U.S. 1, St. Lucie County, FL, Comment Period Ends: 10/03/2011, Contact: Cathy Kendall 850-553-2225.

EIS No. 20110260, Draft EIS, NPS, FL, Biscayne National Park, General Management Plan, Implementation, Miami-Dade County, FL, Comment Period Ends: 10/17/2011, Contact: Morgan Elmer 303-969-2317.

EIS No. 20110261, Final EIS, USFS, NV, Mountain City, Ruby Mountains, and Jarbidge Ranger Districts, Combined Travel Management Project, Implementation, Humboldt-Toiyabe National Forest, Elko and White Pine Counties, NV, Review Period Ends: 10/03/2011, Contact: James Winfrey 775-355-5308.

EIS No. 20110262, Draft EIS, NPS, FL, Canaveral National Seashore Project, General Management Plan, Implementation, Brevard and Volusia Counties, FL, Comment Period Ends: 10/17/2011, Contact: Chris Church 303-969-2276.

EIS No. 20110263, Draft EIS, USACE, CA, Salton Sea Species Conservation Habitat Project, To Serve as a Proof of Concept for the Restoration of Shallow Water Habitat that Currently Support Fish and Wildlife Dependent Upon the Salton Sea, within the southern portion of the Salton Sea, Imperial County, CA, Comment Period Ends: 10/17/2011, Contact: Lanika Cervants 760-602-4838.

EIS No. 20110264, Final EIS, FHWA, MT, Russell Street/South 3rd Street Reconstruction Project, To Address Current and Projected Safety and Operational needs, Funding and U.S. Army COE Section 404 Permit, City of Missoula, Missoula County, MT, Review Period Ends: 09/20/2011, Contact: Brian Hasselbach 406-449-5302.

EIS No. 20110265, Draft EIS, ARS, ID, U.S. Sheep Experiment Station Grazing and Associated Activities Project 2010, To Develop Integrated Methods for Increasing Production Efficiency of Sheep, Dubois, ID, Comment Period Ends: 10/03/2011, Contact: Sue Wingate 603-569-3114.

EIS No. 20110266, Final EIS, BR, CA, Nimbus Hatchery Fish Passage Project, To Create and Maintain a Reliable System for Collecting Adult Fish to Allow Reclamation, Rancho Cordova, Gold River, CA, Review Period Ends: 09/19/2011, Contact: Dave Robinson 916-989-7179.

EIS No. 20110267, Final EIS, USFS, CA, Keddie Ridge Hazardous Fuels Reduction Project, Implementation, Plumas National Forest, Mt. Hough District, Plumas County, CA, Review Period Ends: 09/19/2011, Contact: Katherine Carpenter 530-283-7619.

EIS No. 20110268, Second Final EIS (Tiering), NCPC, DC, Tier-2 FINAL—Smithsonian Institution National Museum of African American History and Culture (NMAAHC), Construction and Operation, Between 14th and 15th Streets NW. and Constitution Avenue, NW. and Madison Drive, NW., Washington, DC, Review Period Ends: 09/19/2011, Contact: Jane Passman 202-633-6549.

EIS No. 20110269, Draft Supplement, USN, 00, Surveillance Towed Array Sensor System Low Frequency Active (SURTASS LFA) Sonar Systems, Updated and Additional Information on Employment of Four SURTASS LFA Sonar Systems for Routine Training, Testing, and Military Operation, Implementation, Comment Period Ends: 10/17/2011, Contact: CDR Neil T. Smith 703-465-8404.

EIS No. 20110270, Draft EIS, NOAA, HI, PROGRAMMATIC—Hawaiian Monk Seal Recovery Actions, To Prevent the Extinction of the Species, HI, Comment Period Ends: 10/17/2011, Contact: Jeff Walters 808-944-2200.

EIS No. 20110271, Final EIS, FHWA, CO, North 1-25 Corridor, To Identify and Evaluate Multi-Modal Transportation Improvement along 61 miles from the Fort Collins-Wellington Area, Funding and U.S. Army COE Section 404 Permit, Denver, CO, Review Period Ends: 09/19/2011, Contact: Monica Pavlik 720-963-3012.

Amended Notices:

EIS No. 20110176, Draft EIS, BLM, NV, Clark, Lincoln, and White Pine Counties Groundwater Development Project, Construction and Operation of Pipeline System and Associated Infrastructure, Right-Of-Way Application, Clark, Lincoln, White Pine, NV, Comment Period Ends: 10/11/2011, Contact: Penny Woods 775-861-6466 Revision to FR Notice 06/10/2011: Extending comment period from 09/08/2011 to 10/11/2011.

Dated: August 16, 2011.
Cliff Rader,
Acting Director, NEPA Compliance Division, Office of Federal Activities.

[FR Doc. 2011-21223 Filed 8-18-11; 8:45 am]

BILLING CODE 6560-50-P